DEPARTMENT OF HOMELAND SECURITY

Transportation Security Administration

Extension of Agency Information Collection Activity Under OMB Review: Sensitive Security Information Threat Assessments

AGENCY: Transportation Security Administration, DHS.

ACTION: Notice.

SUMMARY: This notice announces that the Transportation Security Administration (TSA) has forwarded the Information Collection Request (ICR) abstracted below to the Office of Management and Budget (OMB) for review and approval of an extension of the currently approved collection under the Paperwork Reduction Act. The ICR describes the nature of the information collection and its expected burden. TSA published a Federal Register notice, with a 60-day comment period soliciting comments, of the following collection of information on February 14, 2007 (72 FR 7059). The collection involves the submission of information by individuals seeking access to Sensitive Security Information (SSI) for use in civil proceedings in Federal court.

DATES: Send your comments by July 18, 2007. A comment to OMB is most effective if OMB receives it within 30 days of publication.

ADDRESSES: Interested persons are invited to submit written comments on the proposed information collection to the Office of Information and Regulatory Affairs, Office of Management and Budget. Comments should be addressed to Nathan Lesser, Desk Officer, Department of Homeland Security/TSA, and sent via electronic mail to oira_submission@omb.eop.gov or faxed to (202) 395-6974.

FOR FURTHER INFORMATION CONTACT: Joanna Johnson, Communications Branch, Business Management Office, Operational Process and Technology, TSA-32, Transportation Security Administration, 601 South 12th Street, Arlington, VA 22202-4220; telephone (571) 227-3651; facsimile (571) 227-3588.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Sensitive Security Information Threat Assessments.

Type of Request: Extension of a currently approved collection.

OMB Control Number: 1652-0042.

Forms(s): Security Threat Assessment Application.

Affected Public: Individuals seeking access to Sensitive Security Information (SSI) for use in civil proceedings in Federal court.

Abstract: TSA is seeking to renew this control number for the maximum three-year period in order to continue compliance with sec. 525 of the Department of Homeland Security Appropriations Act of 2007 (DHS Appropriations Act), and to continue the process TSA developed whereby a party seeking access to SSI in a civil proceeding in federal court that demonstrates a substantial need of relevant SSI in the preparation of the party's case, and that the party is unable without undue hardship to obtain the substantial equivalent of the information by other means, may request that the party or party's representative be granted conditional access to the SSI at issue in the case. Additionally, court reporters that are required to record or transcribe testimony containing specific SSI and do not have a current clearance required for access to classified national security information as defined by E.O. 12958 will need to request to be granted access to SSI. TSA will use the information collected to conduct the threat assessment for the purpose of determining whether the provision of such access to the information for the proceeding presents a risk of harm to the nation. The results of the threat assessment will be used to make a final determination on whether the individual may be granted access to the SSI at issue in the case.

Number of Respondents: 180.

Estimated Annual Burden Hours: An estimated 180 hours annually.

Issued in Arlington, Virginia, on June 11, 2007.
Fran Lozito,
Director, Business Management Office, Operational Process and Technology.

[FR Doc. E7-11618 Filed 6-15-07; 8:45 am]

BILLING CODE 9110-05-P